DEPARTMENT OF TRANSPORTATION

Federal Aviation Administration

Third Party War Risk Liability Insurance

AGENCY: Federal Aviation Administration, DOT.

ACTION: Notice of Issuance of New FAA Third Party War Risk Liability Insurance.

SUMMARY: The Federal Aviation Administration has issued a new Third Party War Risk Liability Insurance Policy to replace the policies that terminated on June 18, 2002. The new Policy changes the amount and basis of the premium to be charged, incorporates interim amendments made since the issuance of the premium policies, and adds actions in the event of default by the insured due to failure to pay premiums. The premium is based upon the extent to which the Insured conducts passenger or (dedicated) air cargo operations, or a combination of both. There are four classes of premiums based upon the coverage limit held by the carrier.

Class I: Coverage less than One Billion U.S. Dollars—
$0.03 × XXX enplanements + ($0.03 × XXX RPMs ÷ 1000) + $0.17 × RTMs ÷ 1000 | $XXX
Class II: Coverage One Billion U.S. Dollars or more, but less than Two Billion U.S. Dollars—
$0.04 × XXX enplanements + ($0.04 × XXX RPMs ÷ 1000) + $0.25 × RTMs ÷ 1000 | $XXX
Class III: Coverage Two Billion U.S. Dollars or more, but less than Three Billion U.S. Dollars—
$0.05 × XXX enplanements + ($0.05 × XXX RPMs ÷ 1000) + $0.30 × RTMs ÷ 1000 | $XXX
Class IV: Coverage Three Billion U.S. Dollars or more—
$0.05 × XXX enplanements + ($0.05 × XXX RPMs ÷ 1000) + $0.33 × RTMs ÷ 1000 | $XXX
Total Premium | $XXX

DATES: New Policy in Effect: 23:59 GMT (7:59 pm EDT) June 18, 2002 until 23:59 GMT (7:59 pm EDT) August 17, 2002.

FOR FURTHER INFORMATION CONTACT: Helen Kish, Program Analyst, APO-3, or Eric Nelson, Program Analyst, APO-3, Federal Aviation Administration, 800 Independence Ave., SW, Washington, DC 20591, telephone 202-267-9943 or 202-267-3090. To obtain copy of the new policy go to FAA Insurance Web site: http://api.hq.faa.gov/911policies/inscover.html.

SUPPLEMENTARY INFORMATION: On June 13, 2002, the Secretary of Transportation authorized a 60-day extension of aviation insurance provided by the Federal Aviation Administration as follows:

MEMORANDUM TO THE PRESIDENT

“Pursuant to the authority delegated to me in paragraph (3) of Presidential Determination No. 01-29 of September 23, 2001, I hereby extend that determination to allow for the provision of aviation insurance and reinsurance coverage for U.S. Flag commercial air carrier service in domestic and international operations for an additional 60 days.

Pursuant to section 44306(c) of chapter 443 of 49 U.S.C.—Aviation Insurance, the period for provision of insurance shall be extended from June 18, 2002, through August 17, 2002.”

/s/ Norman Y. Mineta

Affected Public: U.S. domestic airline industry—Air Carriers who previously were insured under the Third Party War-Risk Liability Insurance Policies with the Federal Aviation Administration or Air Carriers who are interested in obtaining insurance.

Issued in Washington, DC on June 26, 2002.
Nan Shellabarger,
Deputy Director, Office of Aviation Policy and Plans.

[FR Doc. 02-16893 Filed 7-3-02; 8:45 am]

BILLING CODE 4910-13-M